ENVIRONMENTAL PROTECTION AGENCY

[EPA-HQ-OPP-2012-0181 and EPA-HQ-OPP-2013-0427; FRL-9392-3]

Issuance of Two Experimental Use Permits

AGENCY: Environmental Protection Agency (EPA).

ACTION: Notice.

SUMMARY: EPA has granted experimental use permits (EUPs) to the following pesticide applicants: Stephen L. Dobson (University of Kentucky) and Phyllom, LLC. An EUP permits use of a pesticide for experimental or research purposes only in accordance with the limitations in the permit.

FOR FURTHER INFORMATION CONTACT: Shanaz Bacchus (88877-EUP-1), Biopesticides and Pollution Prevention Division (7511P), Office of Pesticide Programs, Environmental Protection Agency, 1200 Pennsylvania Ave. NW., Washington, DC 20460-0001; telephone number: (703) 308-8097; email address: bacchus.shanaz@epa.gov; and

Jeannine Kausch (88347-EUP-1), Biopesticides and Pollution Prevention Division (7511P), Office of Pesticide Programs, Environmental Protection Agency, 1200 Pennsylvania Ave. NW., Washington, DC 20460-0001; telephone number: (703) 347-8920; email address: kausch.jeannine@epa.gov.

SUPPLEMENTARY INFORMATION:

I. General Information

A. Does this action apply to me?

These actions are directed to the public in general. Although these actions may be of particular interest to those persons who conduct or sponsor research on pesticides, the Agency has not attempted to describe all the specific entities that may be affected by these actions.

B. How can I get copies of this document and other related information?

The docket for these actions, identified by docket identification (ID) numbers EPA-HQ-OPP-2012-0181 (88877-EUP-1) and EPA-HQ-OPP-2013-0427 (88347-EUP-1) are available at http://www.regulations.gov or at the Office of Pesticide Programs Regulatory Public Docket (OPP Docket) in the Environmental Protection Agency Docket Center (EPA/DC), EPA West Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. EUPs

EPA has issued the following EUPs:

1. 88877-EUP-1. (EPA-HQ-OPP-2012-0181). Issuance. Stephen L. Dobson, University of Kentucky, Department of Entomology, S-225 Ag. Science Center North, Lexington, KY 40546-0091. This EUP allows the release of 30,000 mosquitoes per week for 26 weeks from approximately 52 grams of Wolbachia pipientis infected Aedes polynesiensis mosquito eggs (containing approximately 0.52 mg Wolbachia pipientis microbial active ingredient used as an insecticide on approximately 97 acres to evaluate the suppression of the native Aedes polynesiensis). One of the sites will be a control site. The program is authorized only in the United States Territory of Samoa. The EUP is effective from June 15, 2012 to June 20, 2013. Four comments were received in response to the May 8, 2012, notice of receipt in the Federal Register, 77 FR 27054, FRL-9342-8. The Agency's and applicant's responses to these comments are included in this docket (Ref. 1 and 2). References: 1. U.S. EPA BPPD memorandum (S. Bacchus through K. Nesci to K. Matthews), May 20, 2013; 2. Robert I. Rose, email to S. Bacchus (U.S. EPA BPPD). University of Kentucky's response to Oxitec's comment. June 19, 2012.

2. 88347-EUP-1. (EPA-HQ-OPP-2013-0427). Issuance. Phyllom, LLC, 922 San Leandro Ave., Suite F, Mountain View, CA 94043. This EUP allows the use of 2,448 pounds of the insecticide, Bacillus thuringiensis subspecies galleriae strain SDS-502 fermentation solids, spores, and insecticidal toxins, on 1,400 acres of forested areas to evaluate the control of emerald ash borer (Agrilus planipennis). The program is authorized only in the States of Illinois, Minnesota, Pennsylvania, and Wisconsin. The EUP is effective from May 8, 2013 to August 31, 2014.

Authority: 7 U.S.C. 136c.

List of Subjects

Environmental protection, Experimental use permits.

Dated: June 27, 2013.
Daniel J. Rosenblatt,
Acting Director, Registration Division, Office of Pesticide Programs.

[FR Doc. 2013-16317 Filed 7-5-13; 8:45 am]

BILLING CODE 6560-50-P